DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 U.S.C. 1531 et seq.).

Permit No. TE-034101

Applicant: Southwest Division of the Naval Facilities Engineering Command, San Diego, California.

The applicant requests a permit to take (harass by survey, collect and sacrifice) the San Diego fairy shrimp (Branchinecta sandiegonensis) and the Riverside fairy shrimp (Streptocephalus wootoni), take (survey by pursuit) the Quino checkerspot butterfly (Euphydryas editha quino), take (harass by survey, capture, band, color-band, and release) the California least tern (Sterna antillarum browni), take (harass by survey and nest monitor) the southwestern willow flycatcher (Empidonax traillii extimus), take (nest monitor) the least Bell's vireo (Vireo bellii pusillus), take (capture, handle, and release) the Stephen's kangaroo rat (Dipodomys stephensi) in conjunction with surveys and population monitoring throughout the species' range in California for the purpose of enhancing their survival. With the exception of the Quino checkerspot butterfly, this activities were previously covered under subpermit NAVYSW-8.

Permit No. TE-040553; TE-040531

Applicants: Daniel Marschalek, San Diego, California; Kelly Volansky, Riverside, California.

These applicants request a permit to take (survey by pursuit) the Quino checkerspot butterfly (Euphydryas editha quino) in conjunction with surveys throughout the species' range in California for the purpose of enhancing its survival.

Permit No. TE-039199

Applicant: Louis LaPierre, Topanga, California.

The applicant requests a permit to take (survey by pursuit) the Quino checkerspot butterfly (Euphydryas editah Quino) and Delhi Sands flower-loving fly (Rhaphiomidas terminatus abdominalis) in conjunction with surveys throughout each species' range in California for the purpose of enhancing their survival.

Permit No. TE-040239

Applicant: SWCA, Inc. Environmental Consultants, Salt Lake City, Utah.

The applicant requests a permit to take (harass by survey and monitor nests) the southwestern willow flycatcher (Empidonax traillii extimus) in conjunction with surveys in Clark County, Nevada for the purpose of enhancing its survival.

Permit No. TE-025733

Applicant: Dynamac Corporation, Corvallis, Oregon.

The permittee requests a permit amendment to take (harass by survey, capture, handle, and release) the Topeka shiner (Notropis topeka), Colorado pikeminnow (Ptychocheilus lucius), razorback sucker (Xyrauchen texamus), bonytail chub (Gila elegans), and humpback chub (Gila cypha) in conjunction with surveys throughout each species' range for the purpose of enhancing their survival.

Permit No. TE-825577

Applicant: Directorate of Public Works, Honolulu, Hawaii.

The permittee requests a permit amendment to remove and reduce to possession (collect) specimens from the following plant species: Chamaesyce celastroides var. kaenana, Hedyotis degeneri, Hibiscus brackenridgei, and Cyanea st-johnii in conjunction with a genetic storage bank and possible propagation for reintroduction throughout Department of the Army lands in Hawaii for the purpose of enhancing their survival.

Permit No. TE-009018

Applicant: Rancho Santa Ana Botanic Garden, Claremont, California.

The permittee requests a permit amendment to remove and reduce to possession (collect) specimens from the following plant species: Allium munzii, Arctostaphylos glandulosa ssp. crassifolia, Arenaria paludicola, Astragalus albens, Astragalus brauntonii, Astragalus lentiginosus var. coachellae, Astragalus tener var. titi, Astragalus tricarinatus, Atriplex coronata var. notatior, Berberis nevinii, Castilleja grisea, Cercocarpus traskiae, Chorizanthe orcuttiana, Cordylanthus maritimus ssp. maritimus, Delphinium variegatum ssp. kinkiense, Dodecahema leptoceras, Eriastrum densifolium ssp. sanctorum, Eriogonum ovalifolium var. vineum, Eryngium aristulatum var. parishii, Fremontodendron mexicanum, Lesquerella kingii ssp. bernardina, Lithophragma maximum, Lotus dendroideus var. traskiae, Malacothamnus clementinus, Monardella linoides ssp. viminea, Orcuttia californica, Oxytheca parishii var. goodmaniana, Pentachaeta lyonii, Poa atropurpurea, Pogogyne abramsii, Pogogyne nudiuscula, Rorippa gambellii, Sibara filifolia, Sidalcea pedata, Swallenia alexandrae, Taraxacum californicum, and Thelypodium stenopetalum in conjunction with scientific research and conservation activities throughout each species' range in California for the purpose of enhancing their survival.

Permit No. TE-040952

Applicant: John A. Ebrey, Jacksonville, Illinois.

The applicant requests a permit to purchase, in interstate commerce, three female and three male captive bred Hawaiian (=nene) geese (Nesochen [=Branta] sandvicensis) for the purpose of enhancing the species propagation and survival. This notification covers activities conducted by the applicant over the next 5 years.

Permit No. TE-040765

Applicant: Bureau of Land Management, Klamath Falls Resource Area, Klamath Falls Oregon.

The applicant requests a permit to take (capture and release; collect tissue samples) the Lost River sucker (Deltistes luxatus) and the shortnose sucker (Chasmistes brevirostris) in conjunction with surveys and population demographic studies in Klamath County, Oregon for the purpose of enhancing their survival.

Permit No. TE-040833

Applicant: Mello Dee Hrdlicka, Riverside, California.

The applicant requests a permit to take (capture, mark, and release) the San Bernardino kangaroo rat (Dipodomys merriami parvus) in conjunction with surveys, population monitoring and research in San Bernardino Counties, California for the purpose of enhancing its survival.

Permit No. TE-023250

Applicant: Department of the Navy, Navy Region Southwest, San Diego, California.

The applicant requests a permit to take (capture, band, collect eggs and feathers, incubate eggs, release, and euthanize unhealthy individuals to benefit the health of the captive population) the San Clemente loggerhead shrike (Lanius ludovicianus mearnsi) in conjunction with a captive breeding program, take (capture and band) the San Clemente Island sage sparrow (Amphispiza belli clementae) and take (capture, toe-clip) the Island night lizard (Xantusia riversiana) in conjunction with population monitoring, and to remove and reduce to possession (collect) the San Clemente Island broom (Lotus dendroideus var. traskiae), San Clemente Island Indian paintbrush (Castilleja grisea), San Clemente Island bush-mallow (Malacothamnus clementinus), San Clemente Island larkspur (Delphinium variegatum ssp. kinkienae), Island rock cress (Sibara filifolia), and the San Clemente Island woodland star (Lithophragma masimum) for DNA-based phylogenetic studies on San Clemente Island, California for the purpose of enhancing their survival. With the exception of the San Clemente Island sage sparrow, Island night lizard, Island rock cress, and San Clemente Island woodland star, these activities were previously covered under subpermit NASNI-4.

DATES: Written comments on these permit applications must be received within 30 days of the date of publication of this notice.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: April 18, 2001.
Rowan W. Gould,
Regional Director, Region 1, Portland, Oregon.

[FR Doc. 01-10482 Filed 4-26-01; 8:45 am]

BILLING CODE 4310-55-P